DEPARTMENT OF ENERGY

10 CFR Parts 1040 and 1042

RIN 1901-AA87

Nondiscrimination on the Basis of Sex in Education Programs or Activities Receiving Federal Financial Assistance

AGENCY: Department of Energy (DOE).

ACTION: Final rule; delay of effective date.

SUMMARY: In accordance with the memorandum of January 20, 2001, from the Assistant to the President and Chief of Staff, entitled “Regulatory Review Plan,” published in the Federal Register on January 24, 2001 (66 FR 7702), this action temporarily delays for 60 days the effective date of the rule entitled “Nondiscrimination on the Basis of Sex in Education Programs or Activities Receiving Federal Financial Assistance” published in the Federal Register on January 18, 2001 (66 FR 4627).

DATES: The effective date of the rule amending 10 CFR part 1040 and adding 10 CFR part 1042 published in the Federal Register at 66 FR 4627 on January 18, 2001 is delayed for 60 days, from February 20, 2001, until April 23, 2001.

FOR FURTHER INFORMATION CONTACT: Michael D. Whatley, (202) 586-3410, michael.whatley@hq.doe.gov; or Sharon Wyatt, (202) 586-2256, sharon.wyatt@hq.doe.gov.

SUPPLEMENTARY INFORMATION: To the extent that 5 U.S.C. section 553 applies to this action, it is exempt from notice and comment because it constitutes a rule of procedure under 5 U.S.C. section 553(b)(A). Alternatively, DOE's implementation of this action without opportunity for public comment, effective immediately upon publication today in the Federal Register, is based on the good cause exceptions in 5 U.S.C. section 553(b)(B) and 553(d)(3). Seeking public comment is impracticable, unnecessary and contrary to the public interest. The temporary 60-day delay in effective date is necessary to give DOE officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this action effective immediately upon publication.

Issued in Washington, D.C. on January 29, 2001.
Spencer Abraham,
Secretary of Energy.

[FR Doc. 01-2891 Filed 2-1-01; 8:45 am]

BILLING CODE 6450-01-P